CORPORATION FOR NATIONAL AND COMMUNITY SERVICE

Agency Information Collection Activities; Comment Request; Days of Service Project Collection Tool

AGENCY: Corporation for National and Community Service.

ACTION: Notice of information collection; request for comment.

SUMMARY: In accordance with the Paperwork Reduction Act of 1995, the Corporation for National and Community Service (operating as AmeriCorps) is proposing to renew an information collection.

DATES: Written comments must be submitted to the individual and office listed in the ADDRESSES section by March 18, 2025.

ADDRESSES: You may submit comments, identified by the title of the information collection activity, by any of the following methods:

(1) Electronically through www.regulations.gov (preferred method).

(2) By mail sent to: AmeriCorps, Attention Rhonda Taylor, 250 E Street SW, Washington, DC 20525.

(3) By hand delivery or by courier to the AmeriCorps mailroom at the mail address given in paragraph (2) above, between 9 a.m. and 4 p.m. eastern time, Monday through Friday, except Federal holidays.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Rhonda Taylor, (202) 355-2202 or by email at RTaylor@americorps.gov.

SUPPLEMENTARY INFORMATION:

Title of Collection: Days of Service Project Collection Tool.

OMB Control Number: 3045-0122.

Type of Review: Renewal.

Respondents/Affected Public: Businesses and organizations.

Total Estimated Number of Annual Responses: 100,000.

Total Estimated Number of Annual Burden Hours: 17,000.

Abstract: AmeriCorps is soliciting comments concerning the proposed renewal of its Days of Service Project Tool, which allows organizers of volunteer events to register their service projects associated with Martin Luther King, Jr., Service Day, September 11th Day of Service, and other volunteer events. Respondents include national service grantees, corporations, volunteer organizations, government entities, and individuals. AmeriCorps wants to help promote Days of Service and other relevant volunteer activities across the country and also to assess the impact of the agency's initiatives. Information provided is purely voluntary and will not be used for any grant or funding support. The current application is due to expire on March 31, 2025. Comments submitted in response to this notice will be summarized and/or included in the request for OMB approval.

Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Rhonda Taylor,
Director of Partnerships and Program Engagement.

[FR Doc. 2025-01093 Filed 1-16-25; 8:45 am]

BILLING CODE 6050-28-P